DEPARTMENT OF ENERGY

Federal Energy Regulatory Commission

[Docket No. RP02-365-000]

Northern Natural Gas Company; Notice of Petition for Declaratory Order

June 26, 2002.

Take notice that on June 5, 2002, Northern Natural Gas Company (Northern), filed a Petition for Declaratory Order requesting that the Commission find that: (1) the Commission did not direct Northern to make Kansas ad valorem tax refunds to its non-jurisdictional customers; and, (2) Northern is not in violation of any Commission ad valorem tax refund orders.

Northern states that on May 10, 2002, the Iowa Utilities Board (IUB) issued an order directing Northern to refund approximately $825,000 of Kansas ad valorem tax refunds received from producers to Peoples Natural Gas Company. Peoples was a non-jurisdictional sales customer of Northern during the period at issue. In its May 10th order, the IUB claimed that the Commission required interstate pipelines, including Northern, to refund all Kansas ad valorem tax overcharges to their customers, “whether jurisdictional or non-jurisdictional.” Further, the IUB asserted that Northern's retention of non-jurisdictional refunds is “a violation of FERC orders.”

Northern states that these allegations are erroneous, that the Commission has never ordered Northern to make refunds to its non-jurisdictional customers, and that refunds of non-jurisdictional amounts, if any, are governed by the contracts between Northern and its non-jurisdictional customers. Further, Northern states that the Commission has: (1) issued an order requiring pipelines to make Kansas ad valorem tax refunds only to their jurisdictional customers; (2) accepted Northern's annual refund reports showing the allocation of Kansas ad valorem tax refunds between jurisdictional and non-jurisdictional customers and approved Northern's refunds to its jurisdictional customers; and, (3) approved a settlement requiring refunds to Northern's jurisdictional customers only.

Any person desiring to be heard or to protest said filing should file a motion to intervene or a protest with the Federal Energy Regulatory Commission, 888 First Street, NE., Washington, DC 20426, in accordance with Sections 385.214 or 385.211 of the Commission's Rules and Regulations. All such motions or protests must be filed on or before July 16, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-16623 Filed 7-1-02; 8:45 am]

BILLING CODE 6717-01-P